DEPARTMENT OF LABOR

Employment and Training Administration

Proposed Information Collection Request Submitted for Public Comment and Recommendations; Title 29 CFR Part 29, Labor Standards for the Registration of Apprenticeship Programs and Title 29 CFR Part 30, Equal Employment Opportunity in Apprenticeship and Training

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before December 2, 2003.

ADDRESSES: Send comments to Anthony Swoope, Administrator, Office of Apprenticeship Training, Employer and Labor Services, 200 Constitution Ave., NW., Room N-4671, Washington, DC 20210; Telephone number: (202) 693-2796 (this is not a toll-free number); E-mail Internet address: swoope.anthony@dol.gov and Fax number (202) 693-2808.

FOR FURTHER INFORMATION CONTACT: Anthony Swoope, Administrator, Office of Apprenticeship Training, Employer and Labor Services, 200 Constitution Ave., NW., Room N-4671, Washington, DC 20210; Telephone number: (202) 693-2796 (this is not a toll-free number); E-mail Internet address: swoope.anthony@dol.gov and Fax number (202) 693-2808.

SUPPLEMENTARY INFORMATION:

I. Background

The National Apprenticeship Act of 1937 authorizes and directs the Secretary of Labor “to formulate and promote the furtherance of labor standards necessary to safeguard the welfare of apprentices, to extend the application of such standards by encouraging the inclusion thereof in contracts of apprenticeship, to bring together employers and labor for the formulation of programs of apprenticeship, to cooperate with State agencies engaged in the formulation and promotion of standards of apprenticeship, and to cooperate with the Secretary of Education * * *” (29 U.S.C. 50). Section 50a of the Act authorizes the Secretary of Labor to “publish information relating to existing and proposed labor standards of apprenticeship,” and to “appoint national advisory committees * * *” (29 U.S.C. 50a).

Title 29 CFR part 29 sets forth labor standards to safeguard the welfare of apprentices, and to extend the application of such standards by prescribing policies and procedures concerning registration, for certain Federal purposes, of acceptable apprenticeship programs with the U.S. Department of Labor, Employment and Training Administration, Office of Apprenticeship Training, Employer and Labor Services (formerly known as the Bureau of Apprenticeship and Training). These labor standards, policies and procedures cover registration, cancellation, and deregistration of apprenticeship programs and apprenticeship agreements; the recognition of a State agency as the appropriate agency for registering local apprenticeship programs for certain Federal purposes; and matters relating thereto.

Title 29 CFR part 30 sets forth policies and procedures to promote equality of opportunity in apprenticeship programs registered with the U.S. Department of Labor and recognized State Apprenticeship Agencies. These policies and procedures apply to recruitment and selection of apprentices, and to all conditions of employment and training during apprenticeship. The procedures provide for review of apprenticeship programs, for registering apprenticeship programs, for processing complaints, and for deregistering noncomplying apprenticeship programs. This part also provides policies and procedures for continuation or withdrawal of recognition of State agencies which register apprenticeship programs for Federal purposes.

II. Desired Focus of Comments

Currently, the Employment and Training Administration is soliciting comments concerning the proposed revision of the collection of information on the registered apprenticeship program under Title 29 CFR part 29 (Labor Standards for the Registration of Apprenticeship Programs) and the proposed extension of the collection of information regarding Title 29 CFR part 30 (Equal Employment Opportunity in Apprenticeship and Training) to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection requests (ICRs) can be obtained by contacting the office listed above in the addressee section of this notice.

III. Current Actions

Recordkeeping and data collection activities regarding registered apprenticeship are by-products of the registration system. Organizations which apply for apprenticeship sponsorship enter into an agreement with the Federal Government or cognizant State government to operate their proposed programs consistent with 29 CFR part 29. Apprenticeship sponsors are not required to file reports regarding their apprentices other than individual registration and update information as an apprentice moves through their program. This revision request includes the addition of Program Characteristics before the Title of the current form, Apprenticeship Agreement (ETA-671), to incorporate the collection of information on programs registered. It reinstates the voluntary disclosure of the apprentice's social security number. It also incorporates the identification by the applicant of his/her status as an incumbent worker prior to becoming an apprentice, the pre-apprentice hourly wage data 90 days or one quarter prior to registration, and provides instructions on those data elements that are not self-explanatory as requested previously by the Office of Management and Budget.

Type of Review: Revision for the Title 29 CFR part 29, Labor Standards for the Registration of Apprenticeship Programs and Extension for the Title 29 CFR part 30, Equal Employment Opportunity in Apprenticeship and Training.

Agency: Employment and Training Administration.

Title: Title 29 CFR part 29, Labor Standards for the Registration of Apprenticeship Programs and Title 29 CFR part 30, Equal Employment Opportunity in Apprenticeship and Training.

OMB Number: 1205-0223 for 29 CFR part 29 and 1205-0224 for 29 CFR part 30.

Agency Number: ETA Form 671 (1205-0223) and ETA Form 9039 (1205-0224).

Recordkeeping: Apprenticeship sponsors are required to keep accurate records on recruitment, selection of the applicant and/or apprentice and the employment and training activities related to the apprentice and the qualifications of each applicant/apprentice pertaining to determination of compliance with the regulation. Records must be retained, where appropriate, regarding affirmative action plans and evidence that qualification standards have been validated. State Apprenticeship Councils are also obligated to keep adequate records pertaining to determination of compliance with these regulations. All of the above records are required to be maintained for five years. If this information was not required, there would be no documentation that the apprenticeship programs were being operated in a nondiscriminatory manner. Many apprenticeship programs are 4 years or more in duration; therefore, it is important to maintain the records for at least 5 years.

Affected Public: Applicants, Apprentices, Sponsors, State Apprenticeship Councils or Agencies, Tribal Government.

Cite/Reference/Form/etc: 29 CFR part 29 and 29 CFR part 30.

Total Respondents: 290,531.

Frequency: 1-time basis.

Total Responses: 290,531.

Average Time per Response: See Chart.

Estimated Total Burden Hours: 60,826.

Summary of Burden for 29 CFR Part 29
Sec. | Total respondents | Frequency | Total responses | Average time per response | Burden (hours)
29.3(b) | 31,956 | 1-time basis | 31,956 | .33 hr./spon. | 10,546
29.3 | 136,617 | 1-time basis | 136,617 | .25 hr./app. | 34,154
29.6 | 118,786 | 1-time basis | 118,786 | .083 hr./app. | 9,859
29.5 | 1,688 | 1-time basis | 1,688 | 2 hrs./spon. | 3,376
| 1,414 | 1-time basis | 1,414 | 2 hrs./SAC | 2,828
29.7 | 40 | 1-time basis | 40 | 1/12 hr. spon. | 3
29.12 | (30) | 1-time basis | (30) | 0 | 0
29.12 *
29.12 | 30 | 1-time basis | 30 | 2 hrs. SAC | 60
29.13 | 0 | 0 | 0 | 0 | 0
Totals | 290,531 |  | 290,531 |  | 60,826
* (accomplished in 1977; no new state agency expected in 2002)

Total Burden Cost (capital/startup): 0.

Total Burden Cost (operating/maintaining): 0.

ETA Form 9039.

Total Respondents: 32,036.

Frequency: 1-time basis.

Total Responses: 53,235.

Average Time per Response: See Chart.

Estimated Total Burden Hours: 5,714.

Summary of Burden for 29 CFR Part 30
Sec. | Total respondents | Frequency | Total responses | Average time per response | Burden (hours)
30.3 | 1,604 | 1-time basis | 1,604 | ½ hr./spon. | 802
30.4 | 84 | 1-time basis | 84 | 1 hr./spon. | 84
30.5 | 5,750 | 1-time basis | 5,750 | ½ hr./spon. | 2,875
30.6 | 50 | 1-time basis | 50 | 5 hrs./spon. | 250
30.8 | 31,956 | 1-time/program | 31,956 | 1 min./spon. | 533
30.8 | 30 State Agencies | 1-time basis | 13,741 | 5 min./spon. | 1,145
30.11 | 31,956 | 1-time | 31,956 | Handout |
ETA 9039 | 50 appl./appr. | 1-time basis | 50 | ½ hr. | 25
30.15 | 30 State Agencies | 1-time | Completed |  |
30.19 | 30 State Agencies | varies |  |  |
Totals | 32,036 |  | 53,235 |  | 5,714

Total Burden Cost (capital/startup): 0.

Total Burden Cost (operating/maintaining): 0.

Comments submitted in response to this notice will be summarized and/or included in the request for Office of Management and Budget approval of the information collection request; they will also become a matter of public record.

Emily Stover DeRocco,
Assistant Secretary, Employment and Training Administration.

[FR Doc. 03-25105 Filed 10-2-03; 8:45 am]

BILLING CODE 4510-30-P